DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995, as amended (44 U.S.C. 3507).

Title: Application for Community Disaster Loan.

Type of Information Collection: Reinstatement, without change, of a previously approved collection for which approval has expired.

OMB Number: 3067-0034.

Abstract: The Community Disaster Loan Program is authorized by section 417 of the Disaster Relief Act of 1974 (Public Law 93-288), as amended by the Robert T. Stafford Disaster Relief and Emergency Assistance Act of 1988 (Public Law 100-707), and implemented by FEMA regulation 44 CFR, subpart K, § 206.364. The Community Disaster Loan Program offers loans to local governments that have suffered a substantial loss of tax or other revenues as a result of a major disaster or emergency and demonstrates a need for Federal financial assistance in order to perform their governmental functions. The loan must be justified on the basis of need and be based on the actual and projected expenses, as a result of the disaster, for the fiscal years in which the occurred and the three succeeding fiscal years. The local government may submit an Application for Community Disaster Loan through the Governor's Authorized Representative.

Affected Public: State, local, or Tribal governments.

Number of Respondents: 3.

Estimated Time per Respondent: 1 hour.

Estimated Total Annual Burden Hours: 3.

Frequency of Response: On occasion.

Comments: Interested persons are invited to submit written comments on the proposed information collection to the Office of Management and Budget, Office of Information and Regulatory Affairs, Attention: Desk Officer for the Emergency Preparedness and Response Directorate/Federal Emergency Management Agency, Washington, DC 20503, within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or e-mail address: InformationCollections@fema.gov.

Dated: August 11, 2003.
George Trotter,
Acting Division Director, Information Resources Management Division, Information Technology Services Directorate.

[FR Doc. 03-21008 Filed 8-15-03; 8:45 am]

BILLING CODE 6718-01-P